DEPARTMENT OF HOMELAND SECURITY

Federal Emergency Management Agency

Agency Information Collection Activities: Submission for OMB Review; Comment Request

AGENCY: Federal Emergency Management Agency, DHS.

ACTION: Notice; 30-day notice and request for comments; revision of a currently approved collection OMB No. 1660-0047, FEMA Form 90-129, Mission Assignment, and FEMA Form 90-136, Action Request.

SUMMARY: The Federal Emergency Management Agency (FEMA), as part of its continuing effort to reduce paperwork and respondent burden, invites the general public and other Federal agencies to take this opportunity to comment on a continuing information collection. In accordance with the Paperwork Reduction Act of 1995 (44 U.S.C. 3506(c)(2)(A)), this notice seeks comments concerning the Mission Assignment (MA) form that is used to record requests for Federal assistance by State and Federal entities to FEMA, and the Action Request (AR) form which is used to request Federal assistance.

Title: Request for Federal Assistance Form—How to Process Mission Assignments in Federal Disaster Operations.

OMB Number: 1660-0047.

Abstract: The MA form is used to record a request for Federal assistance by States and Federal entities to FEMA, and may become the official FEMA obligating document if a mission assignment to another Federal agency results from the request. Mission assignments are directives provided by FEMA to another agency to perform specific work in disaster operations, on a reimbursable basis and are defined in the 44 CFR 206.2(a)(18) and to record Federal approving signatures.

Affected Public: State, local or tribal governments and Federal Government.

Number of Respondents: 56.

Estimated Time per Respondent: 8 hours and 23 minutes.

Estimated Total Annual Burden Hours: 1,739.

Estimated Cost: Cost to respondent is estimated to be approximately $61,195.41 annually.

Comments: Interested persons are invited to submit written comments on the proposed information collection to the Office of Information and Regulatory Affairs, Office of Management and Budget, Attention: Nathan Lesser, Desk Officer, Department of Homeland Security/FEMA, and sent via electronic mail to oira_submission@omb.eop.gov or faxed to (202) 395-6974. Comments must be submitted on or before November 13, 2007.

FOR FURTHER INFORMATION CONTACT: Requests for additional information or copies of the information collection should be made to Director, Records Management, FEMA, 500 C Street, SW., Room 609, Washington, DC 20472, facsimile number (202) 646-3347, or e-mail address FEMA-Information-Collections@dhs.gov.

Dated: October 3, 2007.
John A. Sharetts-Sullivan,
Director, Records Management and Privacy, Office of Management Directorate, Federal Emergency Management Agency, Department of Homeland Security.

[FR Doc. E7-19994 Filed 10-10-07; 8:45 am]

BILLING CODE 9110-10-P